ENVIRONMENTAL PROTECTION AGENCY

DEPARTMENT OF ENERGY

NUCLEAR REGULATORY COMMISSION

[Docket No. A-2000-38; FRL-6945-8]

Interagency Steering Committee on Radiation Standards (ISCORS) Cleanup Subcommittee: Draft Approach for Developing a Web Accessible Catalog of Dose and Risk Models and Their Capabilities, and Guidance to Users Regarding the Selection of Dose and Risk Models

AGENCY: U.S. Environmental Protection Agency, U.S. Department of Energy, and the U.S. Nuclear Regulatory Commission.

ACTION: Notice of availability and comment.

SUMMARY: The U.S. Environmental Protection Agency (EPA), U.S. Department of Energy (DOE), and the U.S. Nuclear Regulatory Commission (NRC) are announcing the availability for comment of the draft document, Approach for Developing a Web Accessible Catalog of Dose and Risk Models and their Capabilities. The purpose of the document is twofold and is organized in two Sections: Section 1 is to provide model users with general guidance and performance considerations regarding how to select radiation dose and risk assessment models for use in site cleanup activities and decision making; Section 2 is to provide a catalog of available dose and risk models, to include descriptions of each model's attributes and performance capabilities in response to the model selection and performance considerations presented in Section 1. The complete document will be in the form of an “on-line catalog” accessible via the Internet, where model users can directly download guidance and information on model capabilities, and model developers can directly input performance information concerning their models. It will combine information that has been developed by ISCORS member agencies regarding model selection criteria with the capabilities of specific models. The public comment period for the document containing the model selection criteria will last 120 days from the date of this notice. Specifically, we are seeking comments on: (1) The general approach for the document and use of the Internet for model user and developer access for uploading and downloading information; and (2) the proposed guidance and set of questions to assist a user in selecting an appropriate model that is responsive to the user's needs. Comments should be sent to the EPA or NRC docket or to the agency contacts listed below. Following the close of the comment period, the agencies will review the public comments and suggested changes will be incorporated, where appropriate, in response to those comments. A final draft of the model selection criteria will then be made available to the public. Model-specific capabilities will then be added by model users and developers.

DATES: Comments received by June 21, 2001 will be considered. Comments received after that date will be considered if it is practical to do so, but no assurance can be given for consideration of late comments.

ADDRESSES: Copies of the draft document may be examined or copied for a fee at the EPA Docket Room M1500, Docket No. A-2000-38, First Floor Waterside Mall, 401 M Street, SW., Washington DC 20460; and the NRC Public Document Room, One White Flint North, 11555 Rockville Pike (first floor), Rockville, MD, mailing address: Public Document Room, U.S. NRC, O-1F13, Washington, DC 20555-0001. The EPA docket may be inspected from 8 am to 4 p.m., Monday through Friday, excluding Federal holidays in Room M1500 at the address above. NRC documents may be inspected from 7:45 am to 4:15 pm, Monday through Friday, excluding Federal holidays at the address above. The draft document is also available through the Internet at: http://www.iscors.org/cleanup.htm . Copies of all comments received by one agency will be periodically copied and sent to the others.

FOR FURTHER INFORMATION CONTACT: Any of the following points of contact for each agency for technical information (see ADDRESSES section above for directions on obtaining a copy of the Draft Approach for Developing a Web Accessible Catalog of Dose and Risk Models and their Capabilities): DOE: Stephen Domotor, telephone: (202) 586-0871, U.S. Department of Energy, Air, Water and Radiation Division, 1000 Independence Avenue, SW, Washington, DC 20585, e-mail Stephen.Domotor@eh.doe.gov; EPA: Ben Hull; Telephone: (202) 564-9382, U.S. Environmental Protection Agency, Mail Stop 6608J, 1200 Pennsylvania Avenue, NW, Washington, DC 20460, e-mail Hull.Benjamin@epa.gov; NRC: Ralph Cady, Telephone: (301) 415-6249, U.S. Nuclear Regulatory Commission, MS T-9F31, Washington, DC 20555, e-mail rec2@nrc.gov.

Dated in Washington, DC, this 1st day of February 2000.
For the U. S. Environmental Protection Agency,
Frank Marcinowski,
Acting Director, Radiation Protection Division, Office of Radiation and Indoor Air.

Dated in Washington, DC, this 2nd day of February 2000.
For the U. S. Department of Energy,
Andy Wallo, III,
Director, Air, Water and Radiation Division, Office of Environmental Policy and Guidance, Office of Environment, Safety and Health.

Dated in Washington, DC, this 30th day of January 2000.
For the U.S. Nuclear Regulatory Commission,
John T. Greeves,
Director, Division of Waste Management, Office of Nuclear Material Safety and Safeguards.

[FR Doc. 01-4269 Filed 2-20-01; 8:45 am]

BILLING CODE 6560-50-U